DEPARTMENT OF VETERANS AFFAIRS

Genomic Medicine Program Advisory Committee; Notice of Meeting

The Department of Veterans Affairs (VA) gives notice under the Federal Advisory Committee Act, 5 U.S.C. App. 2, that the Genomic Medicine Program Advisory Committee will meet on April 18, 2014, at the American Association of Airport Executives Conference Center, at 601 Madison Street in Alexandria, Virginia. The meeting will convene at 9:00 a.m. and adjourn at 5:00 p.m. The meeting is open to the public.

The purpose of the Committee is to provide advice and make recommendations to the Secretary of Veterans Affairs on using genetic information to optimize medical care for Veterans and to enhance development of tests and treatments for diseases particularly relevant to Veterans.

The Committee will receive program updates and continue to provide insight into optimal ways for VA to incorporate genomic information into its health care program, while applying appropriate ethical oversight and protecting the privacy of Veterans. The meeting will focus on developing infrastructure and guidelines for genotyping and phenotyping, and translation of genomics into the clinic. The Committee will also receive an update on the status of the ongoing Million Veteran Program and the Clinical Genomics Service. The Committee will receive public comments at 3:30 p.m. Public comments will not exceed 5 minutes each. Individuals who wish to speak may submit a 1-2 page summary of their comments for inclusion in the official meeting record to Dr. Sumitra Muralidhar, Designated Federal Officer, 810 Vermont Avenue NW., Washington, DC 20420, or by email at sumitra.muralidhar@va.gov. Any member of the public seeking additional information should contact Dr. Muralidhar at (202) 443-5679.

Dated: March 13, 2014.
Rebecca Schiller,
Committee Management Officer.

[FR Doc. 2014-05901 Filed 3-17-14; 8:45 am]

BILLING CODE 8320-01-P